DEPARTMENT OF HEALTH AND HUMAN SERVICES

Centers for Disease Control and Prevention

CDC Consultation on Draft Documents: Program Announcement for Health Departments and HIV Prevention Community Planning Guidance

Name: National Center for HIV, STD, and TB Prevention: Meeting.

Time and Date: 8:30 a.m.—5 p.m.; October 17-18, 2002.

Place: Swissotel Atlanta, 3391 Peachtree Road, NE, Atlanta, Georgia 30326.

Status: Open to the public, but limited by the space available. The meeting room accommodates approximately 200 people.

Purpose: The purpose of this consultation is to obtain input into the development of the Program Announcement for Health Departments and the HIV Prevention Community Planning Guidance. The program announcement for health departments will be addressed on October 17 and the community planning guidance will be addressed on October 18.

Contact Person for More Information: Sean David Griffiths, Centers for Disease Control and Prevention, National Center for HIV, STD, and TB Prevention, Division of HIV/AIDS Prevention, 1600 Clifton Rd., NE, M/S E-35, Atlanta, GA 30333, telephone 404-639-3453.

The Director, Management and Analysis and Services Office, has been delegated the authority to sign Federal Register Notices pertaining to announcements of meetings and other committee management activities, for both the Centers for Disease Control and Prevention and the Agency for Toxic Substances and Disease Registry.

Dated: October 2, 2002.
John Burckhardt,
Acting Director, Management Analysis and Services Office, Centers for Disease Control and Prevention.

[FR Doc. 02-25509 Filed 10-7-02; 8:45 am]

BILLING CODE 4163-18-P